DEPARTMENT OF AGRICULTURE

Forest Service

Yavapai County Resource Advisory Committee

AGENCY: Forest Service, USDA.

ACTION: Notice of meeting.

SUMMARY: The Yavapai County Resource Advisory Committee (RAC) will meet in Prescott, Arizona. The committee is meeting as authorized under the Secure Rural Schools and Community Self-Determination Act (Pub. L. 110-343) and in compliance with the Federal Advisory Committee Act. The purpose of the meeting is to discuss RAC Timeline, Grants and Agreements Workshop, Discuss Financial Status, and Project Evaluation Criteria.

DATES: The meeting will be held October 29, 2010; 9 a.m. to 4 p.m.

ADDRESSES: The meeting will be held at the Prescott Fire Center, 2400 Melville Dr., Prescott, AZ 86301.

FOR FURTHER INFORMATION CONTACT: Debbie Maneely, RAC Coordinator, Prescott National Forest, 344 S. Cortez, Prescott, AZ 86301; (928) 443-8130 or dmaneely@fs.fed.us.

SUPPLEMENTARY INFORMATION: The meeting is open to the public. The following business will be conducted: (1) Approve September meeting minutes; (2) discuss possible Grants and Agreements workshops; (3) financial reporting; (4) RAC timeline; (5) create project evaluation criteria; (6) followup on bin items from last meeting; (7) next meeting agenda, location, and date.

Dated: October 7, 2010.
Alan Quan,
Forest Supervisor.

[FR Doc. 2010-25822 Filed 10-13-10; 8:45 am]

BILLING CODE 3410-11-P